DEPARTMENT OF LABOR

Employment and Training Administration

[TA-W-52,616]

McKeehan Hosiery Mills, Inc., A Affiliate of Prewett Associated Mills Ft. Payne, AL; Notice of Termination of Investigation

Pursuant to section 221 of the Trade Act of 1974, an investigation was initiated on August 19, 2003 in response to a worker petition which was filed by a company official on behalf of workers at McKeehan Hosiery Mills, Inc., an affiliate of Prewett Associated Mills, Ft. Payne, Alabama (TA-W-52,616).

The petitioner has requested that the petition be withdrawn. Consequently, further investigation in this case would serve no purpose, and the investigation has been terminated.

Signed in Washington, DC this 28th day of August 2003.
Linda G. Poole,
Certifying Officer, Division of Trade Adjustment Assistance.

[FR Doc. 03-23704 Filed 9-16-03; 8:45 am]

BILLING CODE 4510-30-P